DEPARTMENT OF COMMERCE

National Oceanic and Atmospheric Administration

[Docket No. 030602141-6297-44]

Availability of Grants Funds for Fiscal Year 2007; Reopening of Application Deadline

AGENCY: National Oceanic and Atmospheric Administration (NOAA), Department of Commerce (DOC).

ACTION: Notice.

SUMMARY: NOAA publishes this notice to reopen the solicitation period on the “Joint Hurricane Testbed (JHT) Opportunities for Transfer of Research and Technology Into Tropical Cyclone Analysis and Forecast Operations,” which was originally announced in the Federal Register on June 12, 2006. This notice is being reopened to permit a wider range of applications and revised proposals and to more fully explain the application process for federal applicants. The solicitation period is reopened from November 21, 2006 to December 6, 2006.

DATES: Proposals must be received by the NOAA no later than 5 p.m., Eastern Standard Time, December 6, 2006.

ADDRESSES: Full proposal packages should be submitted through the http://grants.gov/Apply Web site. For those without internet access and for applications from U.S. Federal agencies, hard copy proposals should be addressed to Dorothy Fryar, DOC/NOAA, Office of Weather & Air Quality Research, Routing Code R/WA, 1315 East-West Highway, Room 11445, Silver Spring, MD 20910.

FOR FUTHER INFORMATION CONTACT: John Gaynor, DOC/NOAA, Office of Weather & Air Quality Research, Routing Code R/WA, 1315 East-West Highway, Room 11229, Silver Spring, MD 20910, phone (301) 713-0460 ext. 117, e-mail John.Gaynor@noaa.gov.

SUPPLEMENTARY INFORMATION: NOAA publishes this notice to reopen the solicitation period on the “Joint Hurricane Testbed (JHT) Opportunities for Transfer of Research and Technology Into Tropical Cyclone Analysis and Forecast Operations,” which was originally announced in the Federal Register on June 12, 2006 (71 FR 33897). That solicitation called for researchers to submit proposals to test and evaluate, and modify if necessary, in a quasi operational environment, their own scientific and technological research applications. The program priorities for this opportunity support NOAA's mission support goal of: Weather and Water—Serve Society's Needs for Weather and Water Information.

This notice is being published to reopen the solicitation period to obtain a wider range of full proposal applications and to more fully explain the application process for Federal agencies. Revised full proposals are permitted. The solicitation period is reopened from October 31, 2006 to 5 p.m. Eastern Daylight Time (EDT), December 6, 2006. Full proposals received between October 31, 2006 and November 21, 2006 will be considered timely and be given full consideration.

Please note that the June 12, 2006 solicitation provided applicants the opportunity to submit a Letter of Intent to obtain feedback from NOAA on their full proposals. This opportunity is no longer available. NOAA is soliciting only full applications through this reopening notice.

NOAA also desires to clarify that applicants from Federal agencies cannot submit their applications on Grants.gov, but must send in their applications to the address and according to the instructions below. In addition, all applicants must list other current and pending Federal funding sources. If there are none, then that must be indicated. For Federal applicants, this should be interpreted as other Federal agency sources such as through MOUs, other contractual arrangements, or competitive awards.

For all applicants (excluding Federal applicants) who submit applications through Grants.gov, a date and time receipt indication is included and will be the basis of determining timeliness. Also, applications submitted through Grants.gov must include a title page with appropriate signatures (see instructions below) scanned and electronically submitted. For Federal applicants and those applicants without internet access, hard copy proposals will be date and time stamped when they are received in the program office. Applications received after that time will not be reviewed.

All other requirements in the June 12, 2006 solicitation for this program remain the same.

For the convenience of applicants, NOAA republishes the application and submission process for the Joint Hurricane Testbed Program. This information, and other relevant information about the program, is currently available in the Federal Funding Opportunity document at Grants.gov

Application and Submission Information

(a) The proposal must include a title page signed by the PI(s) and the appropriate representatives(s) of their home institution(s). Each PI and institutional representative should be identified by full name, title, organization, telephone number, mailing address, and e-mail address.

(b) A one-page abstract must be included and must contain a brief summary of the proposed work to be completed. The abstract must appear on a separate page, headed with the proposal title and the name(s) of the PI(s) and their home institution(s).

(c) All proposals must provide a Statement of Work that includes:

(1) The proposed duration of the project, from one to two years;

(2) A brief description of the project, with prior research results (including references) to demonstrate sufficient maturity and potential for a successful transition to operations at TPC/NHC and other operational forecast centers (e.g., CPHC, JTWC) and/or, if applicable, at a numerical weather prediction center;

(3) A proposed work plan for the project, including hardware and software needs, the testing and evaluation approach, metric(s) for success, project deliverables, a timeline with key milestones, real-time operational data needed as input, and a plan to port necessary codes to the operational environment of TPC/NHC and/or NCEP Central Operations (NCO). An overview of the JHT and TPC/NHC operational IT environments can be obtained from the JHT Web site: http://www.nhc.noaa.gov/jht/tpc_JHT_IT_structure_june06.pdf. For applicants without Internet access, this information can be obtained by contacting: Dr. Jiann-Gwo Jiing, Director, Joint Hurricane Testbed, Tropical Prediction Center, 11691 SW. 17th Street, Miami, FL 33165, phone (305) 229-4443, or via e-mail at Jiann-Gwo.Jiing@noaa.gov. Final work plans for approved projects will be reached by agreement between the PI and the JHT Director;

(4) A time line for delivering scientific and technical documentation and training materials over the course of the project that are sufficient to enable testing and evaluation of the proposed techniques. If the proposal is funded, researchers are expected to coordinate with the JHT Director to formalize this timeline;

(5) Schedule and needs for expected travel. PIs are strongly encouraged to plan and budget during each year of the project to describe their work at the annual Interdepartmental Hurricane Conference (IHC), sponsored by the Office of the Federal Coordinator for Meteorological Services and Supporting Research. Additionally, visits by PIs and/or their support staff to the TPC/NHC, and any other operational center(s) as necessary, may be beneficial for training JHT staff and the forecaster and technical point(s) of contact in preparation for project testing and evaluation; and

(6) Estimates of JHT staff requirements in terms of on-site (or off-site) JHT facilitator efforts, and estimated computational, communication, and/or display requirements at the researcher's home institution and/or at JHT via remote access and data transfer.

(d) All applicants must submit a budget that includes PI and scientific and technical support staff salaries, JHT facility requirements, computing and communications funding, equipment funding (provide justification), indirect charges, and travel. Note that funding for secretarial support and IT improvements at the PI's home institution is not generally available. Non-federal applicants must use Standard Form 424A, Budget Information—Non-Construction Programs that is contained in the standard NOAA Grants and Cooperative Agreement Application Package.

(e) Non-federal applicants must submit additional forms included in the standard NOAA Grants and Cooperative Agreement Application Package (see section IV.A above).

(f) An abbreviated Curriculum Vita for the PI must be included. Reference lists should be limited to all publications in the last three years with up to five other relevant papers.

(g) Current and pending Federal support: Each investigator must submit a list that includes project title; supporting agency with grant number, investigator months, dollar value and duration. Requested amounts should be listed for pending Federal support.

(h) Additional proposal requirements include:

(1) For applications submitted in hard copy, one signed original and two additional hard copies of the complete proposal must be submitted. Submission of an electronic copy in PDF format of the proposal document via the http://grants.gov/Apply Web site (abstract, Statement of Work, and budget) is strongly encouraged to facilitate the review process.

(2) Each proposal must be dated and contain page numbers;

(3) Items b and c above must be contained within no more than ten pages, using a 12-point font and one-inch margins.

Limitation of Liability

In no event will NOAA or the Department of Commerce be responsible for proposal preparation costs if this program is cancelled because of other agency priorities. Publication of this announcement does not oblige NOAA to award any specific project or to obligate any available funds. Applicants are hereby given notice that funding for the Fiscal Year 2007 program is contingent upon the availability of Fiscal Year 2007 appropriations.

Universal Identifier

Applicants should be aware they are required to provide a Dun and Bradstreet Data Universal Numbering System (DUNS) number during the application process. See the October 30, 2002, Federal Register, (67, FR 66177) for additional information. Organizations can receive a DUNS number at no cost by calling the dedicated toll-free DUNS Number request line at 1-866-705-5711 or via the Internet at http://www.dunandbradstreet.com.

Intergovernmental Review: Applications under this program are not subject to Executive Order 12372, “Intergovernmental Review of Federal Programs.”

Funding Restrictions: None.

National Environmental Policy Act (NEPA)

NOAA must analyze the potential environmental impacts, as required by the National Environmental Policy Act (NEPA), for applicant projects or proposals which are seeking NOAA federal funding opportunities. Detailed information on NOAA compliance with NEPA can be found at the following NOAA NEPA Web site: http://www.nepa.noaa.gov/, including our NOAA Administrative Order 216-6 for NEPA, http://www.nepa.noaa.gov/NAO216_6_TOC.pdf, and the Council on Environmental Quality implementation regulations, http://ceq.eh.doe.gov/nepa/regs/ceq/toc_ceq.htm Consequently, as part of an applicant's package, and under their description of their program activities, applicants are required to provide detailed information on the activities to be conducted, locations, sites, species and habitat to be affected, possible construction activities, and any environmental concerns that may exist (e.g., the use and disposal of hazardous or toxic chemicals, introduction of non-indigenous species, impacts to endangered and threatened species, aquaculture projects, and impacts to coral reef systems). In addition to providing specific information that will serve as the basis for any required impact analyses, applicants may also be requested to assist NOAA in drafting of an environmental assessment, if NOAA determines an assessment is required. Applicants will also be required to cooperate with NOAA in identifying feasible measures to reduce or avoid any identified adverse environmental impacts of their proposal. The failure to do so shall be grounds for not selecting an application. In some cases if additional information is required after an application is selected, funds can be withheld by the Grants Officer under a special award condition requiring the recipient to submit additional environmental compliance information sufficient to enable NOAA to make an assessment on any impacts that a project may have on the environment. The Department of Commerce Preaward Notification Requirements for Grants and Cooperative Agreements contained in the Federal Register notice of October 1, 2001 (66 FR 49917), as amended by the Federal Register notice published on October 30, 2002 (67 FR 66109), are applicable to this solicitation.

Paperwork Reduction Act

This document contains collection-of-information requirements subject to the Paperwork Reduction Act (PRA). The use of Standard Forms 424, 424A, 424B, SF-LLL, and CD-346 has been approved by the Office of Management and Budget (OMB) under the respective control numbers 0348-0043, 0348-0044, 0348-0040, 0348-0046, and 0605-0001. Notwithstanding any other provision of law, no person is required to respond to, nor shall any person be subject to a penalty for failure to comply with, a collection of information subject to the requirements of the PRA unless that collection of information displays a currently valid OMB control number.

Executive Order 12866

This notice has been determined to be not significant for purposes of Executive Order 12866.

Executive Order 13132 (Federalism)

It has been determined that this notice does not contain policies with Federalism implications as that term is defined in Executive Order 13132.

Administrative Procedure Act/ Regulatory Flexibility Act

Prior notice and an opportunity for public comment are not required by the Administrative Procedure Act or any other law for rules concerning public property, loans, grants, benefits, and contracts (5 U.S.C. 553(a)(2)). Because notice and opportunity for comment are not required pursuant to 5 U.S.C. 553 or any other law, the analytical requirements of the Regulatory Flexibility Act (5 U.S.C. 601 et seq.) are inapplicable. Therefore, a regulatory flexibility analysis has not been prepared.

Dated: November 16, 2006.
Mark E. Brown,
Chief Financial Officer and Chief Administrative Officer, Office of Oceanic and Atmospheric Research, National Oceanic and Atmospheric Administration.

[FR Doc. E6-19650 Filed 11-20-06; 8:45 am]

BILLING CODE 3510-22-P